DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Census Employment Inquiry.

OMB Control Number: 0607-0139.

Form Number(s): BC-170A, BC-170B, and BC-170D.

Type of Request: Regular submission.

Number of Respondents: 70,000.

Average Hours per Response: 15 min.

Burden Hours: 17,500.

Needs and Uses: Application for benefits

Affected Public: Individuals or households.

Frequency: One time.

Respondent's Obligation: Required to obtain or retain benefits.

Legal Authority: Title 13 U.S.C. Section 23 a and c.

This information collection request may be viewed at www.reginfo.gov. Follow the instructions to view Department of Commerce collections currently under review by OMB.

Written comments and recommendations for the proposed information collection should be sent within 30 days of publication of this notice to OIRA_Submission@omb.eop.gov or fax to (202)395-5806.

Dated: April 6, 2016.
Glenna Mickelson,
Management Analyst, Office of the Chief Information Officer.

[FR Doc. 2016-08203 Filed 4-8-16; 8:45 am]

BILLING CODE 3510-07-P